DEPARTMENT OF THE INTERIOR

Fish and Wildlife Service

[FWS-R1-R-2014-N157]; [12560-0000-10137 S3]

Conboy Lake National Wildlife Refuge, Klickitat County, WA; Comprehensive Conservation Plan and Finding of No Significant Impact for Environmental Assessment

AGENCY: Fish and Wildlife Service, Interior.

ACTION: Notice of availability.

SUMMARY: We, the U.S. Fish and Wildlife Service (Service), announce the availability of our comprehensive conservation plan (CCP) and finding of no significant impact (FONSI) for the environmental assessment (EA) for Conboy Lake National Wildlife Refuge (Refuge). The CCP will guide Refuge management for the next 15 years.

ADDRESSES: You may view, download, or request printed or CD-ROM copies of the CCP and FONSI by the following methods:

Agency Web site: Download the documents at www.fws.gov/refuge/conboy_lake/.

Email: mcriver@fws.gov. Include “Conboy Lake NWR CCP” in the subject.

Fax: Attn: Conboy Lake NWR CCP, (509) 546-8303.

U.S. Mail and In-Person Viewing or Pickup: Conboy Lake National Wildlife Refuge, 100 Refuge Rd., Glenwood, WA 98619. For more document viewing locations, see “Public Availability of Documents” under SUPPLEMENTARY INFORMATION.

FOR FURTHER INFORMATION CONTACT: Rich Albers, Refuge Manager, (509) 546-8317 (phone).

SUPPLEMENTARY INFORMATION:

Introduction

With this notice, we finalize the CCP process for the Refuge. We started this process through a notice in the Federal Register (76 FR 41286; July 13, 2011). We also released the draft CCP/EA to the public and requested comments in a notice in the Federal Register (79 FR 2862; January 16, 2014).

We announce our decision and the availability of the FONSI and the final CCP in accordance with National Environmental Policy Act (40 CFR 1506.6(b)) requirements. We completed an analysis of impacts on the human environment in the draft CCP/EA.

The Refuge was established in 1965 as a sanctuary for migratory birds, primarily waterfowl. The CCP will guide us in managing and administering the Refuge for the next 15 years. We selected Alternative 2 for implementation, as it is described in the final CCP. We made changes and clarifications to the final CCP, where appropriate, to address public comments we received on the draft CCP/EA. A summary of the public comments is included in the final CCP with our responses.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public. We will review and update the CCP at least every 15 years in accordance with the Refuge Administration Act.

Selected Alternative

Under our selected alternative, we will control reed canarygrass through water management, haying, mowing, and grazing; prolonged flooding and dewatering will also be used to control reed canarygrass and the bullfrog and bullhead populations. We will create forest openings for target species and prescribed fires, and snags for Lewis woodpeckers and other insectivore and cavity-nesting species.

More areas will open for hiking and wildlife observation under our selected alternative, and more facilities will be developed, such as blinds, to enhance wildlife observation and photography. We will emphasize our interpretive program on the Willard Springs Trail, and the trail will be realigned and lengthened. Environmental education and interpretation media will increase. Hunting will continue to be provided with little change. Hunting will be changed by closure of a little used area for deer hunting. We will establish new tribal partnerships, evaluate archeological sites for National Register of Historic Places eligibility, develop an inadvertent discovery plan, and complete a cultural resources overview. The educational emphasis on the existing National Register of Historic Places site—the Whitcomb-Cole Hewn Log House—will increase. The details of our selected alternative and management actions can be found in the CCP.

Public Availability of Documents

You can view documents at the following libraries:

• Hood River Library, 502 W State St., Hood River, OR 97301.

• White Salmon Valley Community Library, 77 NE Wauna Ave., White Salmon, WA 98672.

• Foley Center Library, Gonzaga University, 502 E Boone Ave., Spokane, WA 99258.

Dated: December 3, 2014.
Hugh Morrison,
Acting Regional Director, Pacific Region, Portland, Oregon.

[FR Doc. 2014-30406 Filed 1-2-15; 9:37 am]

BILLING CODE 4310-55-P